DEPARTMENT OF LABOR

Employment and Training Administration

[TA-W-58,081]

Accufab Industries New Freedom, PA; Notice of Termination of Investigation

Pursuant to section 221 of the Trade Act of 1974, as amended, an investigation was initiated on October 6, 2005 in response to a petition filed by a company official on behalf of workers at Accufab Industries, New Freedom, Pennsylvania.

The petitioner has requested that the petition be withdrawn. Consequently, the investigation has been terminated.

Signed at Washington, DC this 31st day of October, 2005.
Linda G. Poole,
Certifying Officer, Division of Trade Adjustment Assistance.

[FR Doc. 05-22327 Filed 11-8-05; 8:45 am]

BILLING CODE 4510-30-P